DEPARTMENT OF ENERGY

Federal Energy Regulatory Commission

[Project No. 4113-067]

Oswego Hydro Partners, LP; Notice of Reasonable Period of Time for Water Quality Certification Application

On June 10, 2025, the New York State Department of Environmental Conservation (New York DEC) submitted to the Federal Energy Regulatory Commission (Commission) notice that it received a request for a Clean Water Act section 401(a)(1) water quality certification as defined in 40 CFR 121.5, from Oswego Hydro Partners, LP, in conjunction with the above captioned project on June 6, 2025. Pursuant to the Commission's regulations,¹ we hereby notify New York DEC of the following.

¹ 18 CFR 4.34(b)(5)(iii).

Date of Receipt of the Certification Request: June 6, 2025

Reasonable Period of Time to Act on the Certification Request: One year, June 6, 2026.

If New York DEC fails or refuses to act on the water quality certification request on or before the above date, then the certifying authority is deemed waived pursuant to section 401(a)(1) of the Clean Water Act, 33 U.S.C. 1341(a)(1).

Dated: June 23, 2025.
Debbie-Anne A. Reese,
Secretary.

[FR Doc. 2025-11833 Filed 6-25-25; 8:45 am]

BILLING CODE 6717-01-P